DEPARTMENT OF THE INTERIOR

National Park Service

[N6620; NPS-WASO-NAGPRA-NPS0041350; PPWOCRADN0-PCU00RP14.R50000]

Notice of Intended Repatriation: University of Florida, Florida Museum of Natural History, Gainesville, FL

AGENCY: National Park Service, Interior.

ACTION: Notice.

SUMMARY: In accordance with the Native American Graves Protection and Repatriation Act (NAGPRA), the University of Florida, Florida Museum of Natural History (FMNH) intends to repatriate certain cultural items that meet the definition of unassociated funerary objects and that have a cultural affiliation with the Indian Tribes or Native Hawaiian organizations in this notice.

DATES: Repatriation of the cultural items in this notice may occur on or after January 15, 2026.

ADDRESSES: Send additional, written requests for repatriation of the cultural items in this notice to David Blackburn, University of Florida, Florida Museum of Natural History, 1659 Museum Road, Gainesville, FL 32611, email NagpraOffice@floridamuseum.ufl.edu.

SUPPLEMENTARY INFORMATION: This notice is published as part of the National Park Service's administrative responsibilities under NAGPRA. The determinations in this notice are the sole responsibility of the FMNH, and additional information on the determinations in this notice, including the results of consultation, can be found in the summary or related records. The National Park Service is not responsible for the determinations in this notice.

Abstract of Information Available

A total of four cultural items have been requested for repatriation. The four unassociated funerary objects include shells, pottery, lithics, and plant remains are from Sarasota Bay Mound (8SO44) which is a sand burial mound that overlooks Sarasota Bay. It dates to the Weedon Island (A.D. 450-1000) and Safety Harbor (A.D. 1000-1500) periods. This site includes multiple burials, many disturbed by landscaping and plumbing activities throughout the years. In 1920, Dr. Charles T. McClintock built a house on top of the mound. Consequently, the mound's height was cut down for the house to be built and during this leveling, pottery and human remains were found. In the 1960s, the house was bought by Earl Putnam, a Canadian developer, who agreed to a salvage excavation before condos were built. Ripley P. Bullen of FLMNH came in and led the excavations of this mound, where these unassociated funerary objects were found. There are no known hazardous substances or treatments.

Determinations

The FMNH has determined that:

• The four unassociated funerary objects described in this notice are reasonably believed to have been placed intentionally with or near human remains, and are connected, either at the time of death or later as part of the death rite or ceremony of a Native American culture according to the Native American traditional knowledge of a lineal descendant, Indian Tribe, or Native Hawaiian organization. The unassociated funerary objects have been identified by a preponderance of the evidence as related to human remains, specific individuals, or families, or removed from a specific burial site or burial area of an individual or individuals with cultural affiliation to an Indian Tribe or Native Hawaiian organization.

• There is a connection between the cultural items described in this notice and the Miccosukee Tribe of Indians and the Seminole Tribe of Florida.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 15, 2026. If competing requests for repatriation are received, the FMNH must determine the most appropriate requestor prior to repatriation. Requests for joint repatriation of the cultural items are considered a single request and not competing requests. The FMNH is responsible for sending a copy of this notice to the Indian Tribes and Native Hawaiian organizations identified in this notice and to any other consulting parties.

Authority: Native American Graves Protection and Repatriation Act, 25 U.S.C. 3004 and the implementing regulations, 43 CFR 10.9.

Dated: November 17, 2025.
Melanie O'Brien,
Manager, National NAGPRA Program.

[FR Doc. 2025-22894 Filed 12-15-25; 8:45 am]

BILLING CODE 4312-52-P